DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 53889-53890, dated September 4, 2012) is amended to reorganize the Office of the Associate Director for Science, Office of the Director, Centers for Disease Control and Prevention.

Section C-B, Organization and Functions, is hereby amended as follows: Delete in its entirety the title for the Innovation and Special Projects Activity (CAS 13), Office of the Associate Director for Science (CAS), and insert the title Special Projects Activity (CAS13).

Dated: September 21, 2012.
Sherri A. Berger,
Chief Operating Officer, Centers for Disease Control and Prevention.

[FR Doc. 2012-26284 Filed 10-25-12; 8:45 am]

BILLING CODE 4160-18-M